DEPARTMENT OF THE INTERIOR

Bureau of Land Management

[A2407-014-004-065516; #O2412-014-004-047181.1]

Proposed Class II Reinstatement of Terminated Oil and Gas Lease NDM 105578, Williams County, ND

AGENCY: Bureau of Land Management, Interior.

ACTION: Notice of lease reinstatement.

SUMMARY: In accordance with the Mineral Leasing Act of 1920, as amended, Sapazi Holdings, LLC and TDB Resources LP filed a timely petition for reinstatement of oil and gas lease NDMT105396602 (NDM 105578) for land in Williams County, North Dakota. The petition was accompanied by all required rentals and royalties accruing from September 1, 2021, the date of termination. No leases were issued that affect these lands. The Bureau of Land Management (BLM) proposes to reinstate this lease because it meets the requirements of the Mineral Leasing Act and BLM regulations and conforms with the existing resource management plan.

FOR FURTHER INFORMATION CONTACT: Samantha Iron Shirt, Section Chief for Fluids Adjudication, BLM, Montana/Dakotas State Office, 5001 Southgate Drive, Billings, Montana 59101-4669; phone: 406-896-5060; email: sironshi@blm.gov.

Individuals in the United States who are deaf, deafblind, hard of hearing, or have a speech disability may dial 711 (TTY, TDD, or TeleBraille) to access telecommunications relay services. Individuals outside the United States should use the relay services offered within their country to make international calls to the point-of-contact in the United States.

SUPPLEMENTARY INFORMATION: The lessee has agreed to the new lease terms:

• Original term and additional conditions of the lease;

• Increased rental of $20 per acre;

• Increased royalty of 20 percent;

• $151 cost of publishing this Notice, and

• $500 cost of administrative fee.

The lease includes the following described lands in Williams County, North Dakota:

NDM 105578

Fifth Principal Meridian, North Dakota

T. 154 N., R. 100 W.,

Sec. 31, lots 3 and 4.

The area described contains 41.90 acres, according to the official plats of the surveys of the said land on file with the BLM.

The lessee has met all the requirements for reinstatement of the lease per section 31(d) and (e) of the Mineral Leasing Act of 1920 (30 U.S.C. 188), as amended. The BLM is proposing to reinstate the lease 30 days following publication of this notice, with the effective date of September 1, 2021, and an extension for 2 years from the date the lease is reinstated in accordance with 43 CFR 3108.23(d), subject to the amended terms and conditions of the lease and the increased rental and royalty rates cited above.

(Authority: 30 U.S.C. 188(e)(4) and 43 CFR 3108.23)

Samantha Iron Shirt,
Chief, Fluids Adjudication Section.

[FR Doc. 2025-14727 Filed 8-1-25; 8:45 am]

BILLING CODE 4331-20-P